DEPARTMENT OF COMMERCE

Foreign-Trade Zones Board

[Docket 60-2002]

Foreign-Trade Zone 158—Vicksburg/Jackson, MS, Application for Subzone, Ergon Refining, Inc. (Oil Refinery); Vicksburg, MS

An application has been submitted to the Foreign-Trade Zones Board (the Board) by the Vicksburg-Jackson Foreign-Trade Zone, grantee of FTZ 158, requesting special-purpose subzone status for the oil refining facilities of Ergon Refining, Inc. (Ergon), located in Vicksburg, Mississippi. The application was submitted pursuant to the provisions of the Foreign-Trade Zones Act, as amended (19 U.S.C. 81a-81u), and the regulations of the Board (15 CFR part 400). It was formally filed on December 17, 2002.

The refinery complex (25,000 BPD capacity, with 630,000 barrel storage capacity) is located at two sites in Vicksburg, Mississippi: Site 1 (80 acres)—main refinery complex, located at 2625 Haining Road, Vicksburg; Site 2 (21 acres)—refinery terminal, located at 2611 Haining Road, Vicksburg. The refinery (174 employees) is used to produce specialty petroleum and asphalt products, and refinery by-products including diesel, lube oils, naphtha and asphalt. All of the crude oil (100 percent of inputs) is sourced from abroad. Ergon St. James, Inc. has also submitted an application for subzone status at the company's crude oil terminal in St. James, Louisiana to supply the proposed subzone in Vicksburg (Docket 61-2002).

Zone procedures would exempt the refinery from Customs duty payments on the foreign products used in its exports. On domestic sales, the company would be able to choose the Customs duty rates that apply to certain petrochemical feedstocks and refinery by-products (duty-free) by admitting incoming foreign crude in non-privileged foreign status. The duty rates on inputs range from 5.25 cents/barrel to 10.5 cents/barrel. The application indicates that the savings from zone procedures would help improve the plant's international competitiveness.

In accordance with the Board's regulations, a member of the FTZ staff has been appointed examiner to investigate the application and report to the Board. Public comment is invited from interested parties. Submissions (original and 3 copies) shall be addressed to the Board's Executive Secretary at one of the following addresses:

1. Submissions Via Express/Package Delivery Services: Foreign-Trade-Zones Board, U.S. Department of Commerce, Franklin Court Building, Suite 4100W, 1099 14th St. NW., Washington, DC 20005; or

2. Submissions Via the U.S. Postal Service: Foreign-Trade-Zones Board, U.S. Department of Commerce, FCB, Suite 4100W, 1401 Constitution Ave. NW., Washington, DC 20230.

The closing period for their receipt is February 25, 2003. Rebuttal comments in response to material submitted during the foregoing period may be submitted during the subsequent 15-day period (to March 12, 2003).

A copy of the application and accompanying exhibits will be available for public inspection at the Office of the Foreign-Trade Zones Board's Executive Secretary at the first address listed above, and at the U.S. Department of Commerce Export Assistance Center, 175 East Capitol St., Jackson, MS 39201.

Dated: December 18, 2002.
Dennis Puccinelli,
Executive Secretary.

[FR Doc. 02-32728 Filed 12-26-02; 8:45 am]

BILLING CODE 3510-DS-P